DEPARTMENT OF COMMERCE

National Oceanic and Atmospheric Administration

RIN 0648-XE165

Pacific Islands Fisheries; Public Meeting

AGENCY: National Marine Fisheries Service (NMFS), National Oceanic and Atmospheric Administration (NOAA), Commerce.

ACTION: Notice; public meetings.

SUMMARY: NMFS announces that the Center for Independent Experts (CIE) will meet to review methods for assessing stocks in coral reef fisheries using information on fish length and life history.

DATES: See SUPPLEMENTARY INFORMATION section for meeting dates and times.

ADDRESSES: The meeting location is in Room 208, Hemenway Hall, University of Hawaii, 2445 Campus Road, Honolulu, HI 96822.

FOR FURTHER INFORMATION CONTACT: Christofer H. Boggs, (808) 725-5364, or Christofer.Boggs@noaa.gov.

SUPPLEMENTARY INFORMATION: The meeting schedule and agenda are as follows:

1. Tuesday, September 8, 2015 (9 a.m.-4 p.m.)

• Introduction

• Background information—Objectives and Terms of Reference

• Fishery Operation and Management

• Data—State of Hawaii System; Coral Reef Ecosystem Division surveys; biological data; other data

• Panel Questions and Answers

2. Wednesday, September 9, 2015 (9 a.m.-4 p.m.)

• Presentation and Review of Stock Assessment

• Panel Questions and Answers

3. Thursday, September 10, 2015 (9 a.m.-4 p.m.)

• Continue Assessment Review (½ day)

• Panel Questions and Answers

• Panel Discussions (Closed)

4. Friday, September 11, 2015 (9 a.m.-4 p.m.)

• Panel Discussions (½ day)

• Present Results (afternoon)

• Adjourn

The order in which agenda items are addressed may change. The meetings will run as late as necessary to complete scheduled business.

Although non-emergency issues not contained in this agenda may come up at the meeting for discussion, those issues may not be the subject of formal action during the meeting. Action will be restricted to those issues specifically listed in this notice and any issues arising after publication of this notice that require emergency action under section 305(c) of the Magnuson-Stevens Act, provided the public has been notified of the intent to take final action to address the emergency.

Special Accommodations

These meetings are physically accessible to people with disabilities. Direct requests for sign language interpretation or other auxiliary aids to Christofer Boggs, (808) 725-5364 or Christofer.Boggs@noaa.gov.

Authority: 16 U.S.C. 1801 et seq.

Dated: September 2, 2015.
Jennifer M. Wallace,
Acting Director, Office of Sustainable Fisheries, National Marine Fisheries Service.

[FR Doc. 2015-22536 Filed 9-4-15; 8:45 am]

BILLING CODE 3510-22-P